DEPARTMENT OF HEALTH AND HUMAN SERVICES

Office of Inspector General

Program Exclusions: October 2000

AGENCY: Office of Inspector General, HHS.

ACTION: Notice of program exclusions.

During the month of October 2000, the HHS Office of Inspector General imposed exclusions in the cases set forth below. When an exclusion is imposed, no program payment is made to anyone for any items or services (other than an emergency item or service not provided in a hospital emergency room) furnished, ordered or prescribed by an excluded party under the Medicare, Medicaid, and all Federal Health Care programs.

In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject, city, state | Effective date
PROGRAM-RELATED CONVICTIONS
ASKARI, SOHEILA | 11/20/2000
MONTGOMERY, AL
BEN, ERIC S | 11/20/2000
PORT ST LUCIE, FL
CARNEVALI, STEVEN ERNEST JR | 11/20/2000
PITTSBURGH, PA
CASPER, FRANCES C | 11/20/2000
VIRGINIA BCH, VA
CHACON, RAUL ENRIQUE | 11/20/2000
VALRICO, FL
CHAMBERS, CHARLES | 11/20/2000
ROOSEVELT, NY
CUCHEZ, MARIA | 11/20/2000
BELL GARDENS, CA
CULLINAN, MICHAEL JOSEPH | 11/20/2000
MORGANTOWN, WV
DE LOS SANTOS, RAMIRO | 11/20/2000
EAGLE PASS, TX
DE LOS SANTOS GARCIA, MARILU | 11/20/2000
EAGLE PASS, TX
DEL TORO PHARMACY | 11/20/2000
MIAMI, FL
DENIS, ALFONSO | 11/20/2000
EL MONTE, CA
DIAZ, RACHEL M | 11/20/2000
HIALEAH, FL
DONALDSON, JAMES FRED | 11/20/2000
BERRIEN SPRINGS, MI
FERREIRO, CARLOS M | 11/20/2000
MIAMI, FL
FISHER, STEPHEN NEAL | 11/20/2000
PITTSBURGH, PA
FLORES, JOSE MARTIN | 11/20/2000
DOWNEY, CA
GALE, STACEY R | 11/20/2000
DONALSONVILLE, GA
GALIANO, CARMEN SOCORRO | 11/20/2000
MIAMI, FL
GARCIA, EDUARDO G | 11/20/2000
MIAMI, FL
HERNANDEZ, ALDO | 11/20/2000
MIAMI, FL
HERNANDEZ, FRANCISCO | 11/20/2000
HIALEAH, FL
HUBBARD, EMILY A | 11/20/2000
MYRTLE BEACH, SC
ISAAC, LAJUANA | 11/20/2000
BLOOMFIELD HILLS, MI
JOHNSON, VICTOR LEE | 11/20/2000
EVANS, GA
LIFESTART CLINIC, INC | 11/20/2000
SCHENECTADY, NY
LITTLEJOHN, JUANITA JO | 11/20/2000
LINDEN, TX
MARTIN, CASSANDRA | 11/20/2000
JAMAICA, NY
MERRIMAN, MARTIN JAMES | 11/20/2000
WARREN, MI
MORENO, JORGE F | 11/20/2000
MIAMI, FL
MYERS, MARY LU | 11/20/2000
UPPER SANDUSKY, OH
NELLIS, SCOTT LOUIS | 11/20/2000
LAS VEGAS, NV
NICKERSON, ANNIE | 11/20/2000
LONG BEACH, CA
OLADIPO, DOHERTY | 11/20/2000
MARIETTA, GA
OVAKIMIAN, SAMVEL | 11/20/2000
GLENDALE, CA
PEDRO, CAPOTE N | 11/20/2000
MIAMI, FL
PEREZ, ALINA | 11/20/2000
HIALEAH, FL
PINSKY, ABE | 11/20/2000
NEW YORK, NY
PURVIS, JOHN AUSTIN | 11/20/2000
WARREN, MI
RODRIGUEZ, CARLOS | 11/20/2000
MIAMI, FL
SANCHUK, DANIEL PAUL | 11/20/2000
BEL ALTON, MD
SCHNEIDER, BRIAN A | 11/20/2000
PORT ST LUCIE, FL
SCOTT, CHRISTINE | 11/20/2000
RIDGELAND, SC
SOKOLOW, LLOYD B | 11/20/2000
SCHENECTADY, NY
SOKUNBI, BAYO | 11/20/2000
MARIETTA, GA
TAN, EGBERT AUNG KYANG | 11/20/2000
TUCKAHOE, NY
TAYLOR, ROSALYN | 11/20/2000
ZANESVILLE, OH
VAINIO, DAVID G | 11/20/2000
BUTTE, MT
VUONG, TAN VAN | 11/20/2000
SAN DIEGO, CA
WADE, SHANISHA | 11/20/2000
COMPTON, CA
WATTS, JOHN SHELBY, JR | 11/20/2000
LOS ANGELES, CA
FELONY CONVICTION FOR HEALTH CARE FRAUD
JONES, SHAWN R | 11/20/2000
EAST RIDGE, TN
KING, NOREEN N | 11/20/2000
ST STEPHENS, SC
MAPLE, DEBORAH D | 11/20/2000
CAMDEN, SC
PICARIELLO, JOSEPH | 11/20/2000
MONTGOMERY, PA
FELONY CONTROL SUBSTANCES CONVICTION
BRANNON, ROBERT WILLIAM | 11/20/2000
HILLIARD, OH
FARRIS, DEBRA ANN SEARS | 11/20/2000
CORBIN, KY
HOPKINS, MARSHA ANN | 11/20/2000
WAYNESBURG, PA
LOGSDON, LISA D | 11/20/2000
LOUISVILLE, KY
MARTENS, ALROY VERN | 11/20/2000
HUTCHINSON, KS
MERCER, MICHAEL J | 11/20/2000
STUTTGART, AR
RITCHIE, HENRY S | 11/20/2000
SPARTANBURG, SC
TYSELL, BARBARA ELISABETH | 11/20/2000
ROYAL OAK, MI
PATIENT ABUSE/NEGLECT CONVICTIONS
BAZZLE, TINA MARIE | 11/20/2000
YUMA, AZ
EVANS, CHARLES E | 11/20/2000
LINDEN, TN
GLOVER, TYRONE B | 11/20/2000
RIDGELAND, SC
GOODYEAR, SARAH | 11/20/2000
LOS LUNAS, NM
HACKLER, LEVESTER | 11/20/2000
WARRENVILLE, OH
HALL, ODESSA LEE | 11/20/2000
SHREVEPORT, LA
HOSKINS, VIRGINIA | 11/20/2000
GREENVILLE, MS
IDLEWOOD ASSOCIATES, LTD | 11/20/2000
KNOXVILLE, TN
LEE, JOHN JOON | 11/20/2000
TUCSON, AZ
LICHT, DAVID WAYNE | 11/20/2000
PAWNEE, OK
MILLS, ANNIE | 11/20/2000
ROCHESTER, NY
MOZEE, PATRINA | 11/20/2000
JACKSON, MS
SIMMONS, CHRISTIAN | 11/20/2000
LAUREL, MS
SMITH, CALLIE MAE | 11/20/2000
BROOKHAVEN, MS
STOKES, PERRY | 11/20/2000
NASHVILLE, TN
TENNESSEE, MINNIE | 11/20/2000
JACKSON, MS
THOMAS, LAWRENCE | 11/20/2000
JACKSON, MS
THOMAS, KATRINA | 11/20/2000
SARDIS, MS
WHATLEY, LORETTA | 11/20/2000
YOUNGSTOWN, OH
WILLIAMS, TONY | 11/20/2000
BRANDON, MS
WOODS, KENDRICK L | 11/20/2000
MEMPHIS, TN
CONTROLLED SUBSTANCE CONVICTIONS
ARMENTROUT, ROBERT MARK | 11/20/2000
RIDGELEY, WV
GRIFFITH, JOHN E JR | 11/20/2000
BELLHAVEN, NC
MACWAN, NELSON M | 11/20/2000
BROOKLYN, NY
LICENSE REVOCATION/SUSPENSION/SURRENDERED
ADAMS, SHARON TOTH | 11/20/2000
VIRGINIA BCH, VA
ANDERSON, MICHAEL O | 11/20/2000
RANCHO PALOS VERDES, CA
BALLARD, JAMES VERNON | 11/20/2000
LILLIAN, AL
BARKER, ROBERTA L | 11/20/2000
SHENANDOAH, IA
BELLIS, BARBARA | 11/20/2000
PHILADELPHIA, PA
BENDA, CHERYL DENISE | 11/20/2000
OKARCHE, OK
BENITEZ, OLGA | 11/20/2000
JACKSON HEIGHTS, NY
BRIGHT, KRYSTIQUE ANNE | 11/20/2000
VALLEJO, CA
BROWN, KAREN R | 11/20/2000
MIDDLE ISLAND, NY
BUCHANAN, WALTER | 11/20/2000
ST LOUIS, MO
CADLE, NANCY J | 11/20/2000
ONEIDA, TN
CALCIANO, ANGELA W | 11/20/2000
MEDIA, PA
CAMPANELLA, CARL JOSEPH | 11/20/2000
DUQUOIN, IL
CAMPBELL, DARLENE | 11/20/2000
BALTIMORE, MD
CASTELLON, JANET | 11/20/2000
HORN LAKE, MS
CHERAMIE, SUSAN | 11/20/2000
CARRIERE, MS
CHRISTIAN, CYNTHIA ALLISE | 11/20/2000
HOUSTON, TX
CLEMENT, KEITH ALAN | 11/20/2000
SAN FRANCISCO, CA
COLLINS, SUE | 11/20/2000
CHATSWORTH, CA
COLOMBO, JOSEPH STEPHEN | 11/20/2000
PITTSBURGH, PA
DAVIS, CYNTHIA STEPHENS | 11/20/2000
ROUGEMONT, NC
DAVIS, DAVID W | 11/20/2000
HOUSTON, TX
DEAN, JOHNNIE L | 11/20/2000
LONGBEACH, MS
DEVITT, DANIEL M | 11/20/2000
CARROLTON, OH
DOLENZ, BERNARD JOSEPH | 11/20/2000
FORREST CITY, AR
DOUGHTY, MARY E | 11/20/2000
JUPITER, FL
DRAKE, JEANETTE MARY | 11/20/2000
SANFORD, FL
DUGAN, PATRICIA | 11/20/2000
GLENSIDE, PA
ELDRIDGE, MELISSA R | 11/20/2000
DANVILLE, IL
ELSENBACH, THERESA MARIE | 11/20/2000
CHICAGO, IL
EVANS, DENA LEA SWETT | 11/20/2000
LOUISVILLE, KY
FALSION, JACK W | 11/20/2000
BROCKPORT, NY
FINKEN, CHRISTINE LYNN | 11/20/2000
FREEPORT, MN
FIZER, LAURA A | 11/20/2000
RED LION, PA
GENTRY, RHONDA S | 11/20/2000
ROCKVALE, TN
GIBSON, ROBERT W | 11/20/2000
PONCA CITY, OK
GILBERT, ANN NIETHHAMER | 11/20/2000
MONROEVILLE, PA
GILLIS, ROBERT P | 11/20/2000
NEW YORK, NY
GLENNON, MAUREEN ALICE | 11/20/2000
SUMMITVILLE, NY
GOLDFARB, ARTHUR N | 11/20/2000
WEST LANCASTER, CA
GREEN, LYNAYA | 11/20/2000
SILVER SPRING, MD
GREEN, TANGELIA C | 11/20/2000
MEMPHIS, TN
GRESKO, JEAN M | 11/20/2000
POTTSTOWN, PA
GROVE, CYNTHIA K | 11/20/2000
ODEBOLT, IA
GURLEY, MELANIE A | 11/20/2000
COLUMBIA, TN
GURULE, MARIE LOUISE | 11/20/2000
MONTCLAIR, CA
HAM, KEVIN ROBERT | 11/20/2000
POPLAR BLUFF, MO
HAMILTON, BETTY LOUISE DAVIS | 11/20/2000
PADUCAH, KY
HANCE, CLAUDIA B | 11/20/2000
NEWPORT, TN
HARRIS, CLAVE L | 11/20/2000
FOREST PARK, IL
HARRIS, KAREN JOHNSON | 11/20/2000
UNIVERSAL CITY, TX
HARTMAN, TED E | 11/20/2000
AUSTIN, TX
HATCHER, MICHELLE L | 11/20/2000
MILWAUKEE, WI
HAY, BOYD LARUE | 11/20/2000
HASTINGS, MN
HEBRON, DELANO N JR | 11/20/2000
CHICAGO, IL
HEITMEIER, GENEVIEVE A | 11/20/2000
MEDIAPOLIS, IA
HESTER, PAMELA S | 11/20/2000
W BURLINGTON, IA
HOLLINSHED-TAYLOR, BARBARA | 11/20/2000
JACKSON, MS
INGRAM, WILLIAM BRADLEY | 11/20/2000
WEST, MS
JOHNSON, ROSEMARY CHRISTINE | 11/20/2000
SHEVLIN, MN
KORANDA, CHARLES L | 11/20/2000
HIRAM, GA
LEVITT, JEFFREY M | 11/20/2000
SCOTTSDALE, AZ
LIBBY, EUGENE KARL, SR | 11/20/2000
CYPRESS, CA
LIGHTFOOTE, WILLIAM E II | 11/20/2000
MCLEAN, VA
MAGERA, JOHN ALLEN | 11/20/2000
BRADFORDWOODS, PA
MONSSEN, SHEILA ANN | 11/20/2000
OAK GROVE, MN
MOORE, VICKIE LEE | 11/20/2000
RALEIGH, NC
MUCH, WENDY SMITH | 11/20/2000
ASTON, PA
NICOLAI, TERRY R | 11/20/2000
HARCOURT, IA
NOONAN, CHARLES ANDREW | 11/20/2000
CONCORD, CA
NOOR-KHAN, NAVEED | 11/20/2000
BEMUS POINT, NY
O'DONOHUE, MATTHEW JOSEPH | 11/20/2000
BAKERSFIELD, CA
OLSON, MARSHA S | 11/20/2000
MT PLEASANT, IA
PANTUSCO, CATHERINE JEANNETTE | 11/20/2000
POUGHKEEPSIE, NY
PERKINS, KENNY L | 11/20/2000
DES MOINES, IA
PROCACINA, THERESA LYNN | 11/20/2000
CARNEGIE, PA
RAM, GOPAL PRASAD | 11/20/2000
WHITESTONE, NY
REESE, NONA | 11/20/2000
GREENWOOD SPRINGS, MS
RICHARD, MICHAEL DAVID | 11/20/2000
KING OF PRUSSIA, PA
RIDLEY, CHARLES LYNWOOD | 11/20/2000
SANTA ROSA, CA
ROBERTS, ALVIN LEE | 11/20/2000
ARLINGTON, TX
RYAN, LINDA GREEN | 11/20/2000
GLASGOW, KY
RYE, PHYLLIS | 11/20/2000
SPRINGFIELD, TN
SANDERS, BARBARA JEAN | 11/20/2000
AMARILLO, TX
SANFORD, CINDY L | 11/20/2000
OSCEOLA, IA
SPIRES, MELVIN CURTIS | 11/20/2000
CLARKSVILLE, TN
STANLEY, MARYETTA | 11/20/2000
HAMILTON, IA
STEVENS, EDGAR VINCENT | 11/20/2000
BALDWINSVILLE, NY
STORTO, KATHY BECK | 11/20/2000
MARSHALLTOWN, IA
TAYLOR, SUSAN YANCEY | 11/20/2000
TIPLERVILLE, MS
TIPPINS, TRICIA RANDALL | 11/20/2000
ELYSBURG, PA
TISBY, MARY | 11/20/2000
TONAWANDA, NY
TRABI, GEORGE B | 11/20/2000
HARRISBURG, PA
UPTON, TONY | 11/20/2000
BOYLE, MS
VELEZ, AUGUSTINE | 11/20/2000
ORCHARD PARK, NY
VENNARD, LEIGH | 11/20/2000
DES MOINES, IA
WALL, CYNTHIA C | 11/20/2000
BETHEL, VT
WHITE, LARA C | 11/20/2000
BRUCE, MS
WHITE, PATRICIA | 11/20/2000
BRANDON, MS
WILLIAMSON, SANDRA T | 11/20/2000
ST PETERSBURG, FL
YANULAVICH, MARY JANE | 11/20/2000
ESSEX JUNCTION, VT
FEDERAL/STATE EXCLUSION/SUSPENSION
H & H MEDICAL SUPPLY | 11/20/2000
LOS ANGELES, CA
FRAUD/KICKBACKS
DURAMED, INC | 05/19/2000
THONOTASASSA, FL
WILLIAMSON, LAURA FLINN | 05/19/2000
THONOTSASSA, FL
OWNED/CONTROLLED BY CONVICTED EXCLUDED
BOLTON CHIROPRACTIC SVCS, P C | 11/20/2000
DENVER, CO
BUENA VISTA PHARMACY, INC | 11/20/2000
NEW YORK, NY
DR TOM ALDEN & ANATOMY CHOICE | 11/20/2000
CAMBRIDGE, MA
GALE PHARMACY SERVICE, INC | 11/20/2000
DONALSONVILLE, GA
GROSS COSMETIC & FAM DENT, P C | 11/20/2000
HOMEWOOD, IL
MARK F BRADSHAW, D D S, P A | 11/20/2000
WACONIA, MN
DEFAULT ON HEAL LOAN
ADDISON, MICHAEL A | 11/20/2000
HARTSVILLE, SC
BALENT, LAURA | 11/20/2000
BELLEVUE, WA
BENNETT, JOHN S | 11/20/2000
SAN MARCOS, TX
BURT, JOSEPH M | 10/16/2000
MYRTLE BEACH, SC
CANNON, DENNIS J | 11/20/2000
LEWISVILLE, TX
DOOLIN, GEORGE G | 11/20/2000
DUBUQUE, IA
DRISCOLL, MICHAEL T | 11/20/2000
TAMPA, FL
EHLENFELD, JEFFREY W | 11/20/2000
GREENUP, IL
FARROKHZAD, SARAH | 11/20/2000
SAN DIEGO, CA
FORD, THOMAS M | 11/20/2000
YORBA LINDA, CA
HARRIS, LAWRENCE J | 11/20/2000
CLEVELAND, OH
HILTON, JAMES R JR | 11/20/2000
BEACON FALLS, CT
HUFF, GREGORY E | 11/20/2000
GAINESVILLE, FL
JACKSON, DONALD V | 11/20/2000
AUSTIN, TX
LOWE, DANE E | 11/20/2000
IONE, CA
MACDONALD, FRANK R | 11/20/2000
ALLENTOWN, PA
MAEDKE, RICHARD C | 11/20/2000
MILWAUKEE, WI
MANIER, LINDA A | 11/20/2000
WASHINGTON, DC
MATHIESEN, DOUGLAS A | 10/16/2000
SHAWNEE, KS
MCCARTY, DANIEL J | 11/20/2000
BUTLER, PA
NIEMAN, EDWARD H | 11/20/2000
BEVERLY HILLS, CA
OSKIN, TERRI A | 11/20/2000
SPOKANE, WA
PARKER, BENJAMIN L | 11/20/2000
PADUCAH, KY
RAMIREZ, YOLANDA C | 11/20/2000
ATLANTA, GA
SADEGHI, MAHYAR | 11/20/2000
PINOLE, CA
SCHREIBMAN, MARK R | 11/20/2000
GREELEY, CO
SHAPIRO, FELIX | 11/20/2000
HUNTINGDON VALLEY, PA
SOLLOM, SHERI L | 11/20/2000
PINE BLUFF, AR
TESSMER, JOHN F | 09/28/2000
BROWNWOOD, TX
TICER, LARRY S | 11/20/2000
ELIZABETHTOWN, KY
TORRES-ORTIZ, HECTOR R | 11/20/2000
CAROLINA, PR
TYLER, NORMAN E | 11/20/2000
INDIANAPOLIS, IN
VAN HORN, WILLIAM A | 11/20/2000
RUTHERFORDTON, NC
WIMER, RUSS A | 11/20/2000
LESLIE, AR
WOLTER, CHAD C | 11/20/2000
ONALASKA, WI

Dated: November 3, 2000.
Calvin Anderson, Jr.,
Director, Health Care Administrative Sanctions, Office of Inspector General.

[FR Doc. 00-29046 Filed 11-13-00; 8:45 am]

BILLING CODE 4150-04-P